DEPARTMENT OF COMMERCE

National Oceanic and Atmospheric Administration

RIN 0648-XF271-X

Endangered Species; File No. 21043

AGENCY: National Marine Fisheries Service (NMFS), National Oceanic and Atmospheric Administration (NOAA), Commerce.

ACTION: Notice; receipt of application.

SUMMARY: Notice is hereby given that the Florida Fish and Wildlife Conservation Commission, Fish and Wildlife Research Institute, 585 Prineville Street, Port Charlotte, FL 33954 [Responsible Party, Gregg Poulakis, Ph.D.], has applied in due form for a permit to take Pristis pectinata for purposes of scientific research.

DATES: Written, telefaxed, or email comments must be received on or before April 28, 2017.

ADDRESSES: The application and related documents are available for review by selecting “Records Open for Public Comment” from the “Features” box on the Applications and Permits for Protected Species (APPS) home page, https://apps.nmfs.noaa.gov, and then selecting File No. 21043 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Malcolm Mohead or Erin Markin, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The objective of the permitted activity is to conduct research and monitoring of endangered smalltooth sawfish to develop conservation and protective measures ensuring the species' recovery. Other listed species potentially encountered and incidentally collected include green (Chelonia mydas), hawksbill (Eretmochelys imbricata), Kemp's ridley (Lepidocheyls kempii), leatherback (Dermochelys coriacea), and loggerhead (Caretta caretta) sea turtles. Researchers are requesting to capture smalltooth sawfish in Florida waters, and then measure, weigh, tag, genetic tissue sample, draw blood, and photograph animals prior to release. The applicant also requests to have access to salvaged animals and parts taken at other parts within the species range.

Dated: March 23, 2017.
Julia Harrison,
Chief, Permits and Conservation Division, Office of Protected Resources, National Marine Fisheries Service.

[FR Doc. 2017-06139 Filed 3-28-17; 8:45 am]

BILLING CODE 3510-22-P